DEPARTMENT OF COMMERCE

International Trade Administration

[A-580-841]

Structural Steel Beams from Korea: Preliminary Results of Antidumping Duty Administrative Review

AGENCY: Import Administration, International Trade Administration, U.S. Department of Commerce.

SUMMARY: On September 30, 2003, the Department of Commerce (the Department) published in the Federal Register (68 FR 56262) a notice announcing the initiation of the administrative review of the antidumping duty order on structural steel beams from the Republic of Korea (Korea). The period of review (POR) is August 1, 2002, to July 30, 2003.

We preliminarily determine that sales of structural steel beams from Korea have been made at prices below the normal value (NV) by the respondents, INI Steel Company (INI) and Dongkuk Steel Mill Co., Ltd. (DSM). If these preliminary results are adopted in the final results of this administrative review, we will instruct Customs and Border Protection (CBP) to assess antidumping duties based on all appropriate entries.

Interested parties are invited to comment on these preliminary results. Parties who submit argument in these proceedings are requested to submit with the argument: (1) a statement of the issues, (2) a brief summary of the argument, and (3) a table of authorities.

EFFECTIVE DATE: September 3, 2004.

FOR FURTHER INFORMATION CONTACT: Mark Flessner or Robert James, AD/CVD Enforcement, Office 7, Import Administration, International Trade Administration, U.S. Department of Commerce, 14th Street and Constitution Avenue, NW., Room 7866, Washington, DC 20230; telephone (202) 482-6312 or (202) 482-0649.

SUPPLEMENTARY INFORMATION:

Background

On August 1, 2003 the Department published a notice of opportunity to request an administrative review of the antidumping duty order on structural steel beams from Korea. (See Antidumping or Countervailing Duty Order, Finding, or Suspended Investigation; Opportunity to Request Administrative Review, 68 FR 45218 (August 1, 2003)). On August 29, 2003, petitioners Nucor Corporation, Nucor Yamato Steel Co., and TXI-Chaparral Steel Co. requested that the Department conduct an administrative review of DSM and INI, which are Korean producers of subject merchandise. Also, on August 29, 2003, DSM requested that the Department conduct an administrative review of their sales of subject merchandise during the POR. On September 30, 2003, the Department published a notice of initiation of a review of structural steel beams from Korea covering the period August 1, 2002, through July 31, 2003. (See Initiation of Antidumping and Countervailing Duty Administrative Reviews and Requests for Revocation in Part, 68 FR 56262 (September 30, 2003)). On December 17, 2003 the Department issued its antidumping duty questionnaires, covering Sections A through E, to INI and to DSM.

The Department had not disregarded sales of structural steel beams made by DSM at prices below the cost of production (COP) in the most recently completed review of DSM; therefore DSM was not initially required to respond to section D of the questionnaire. On March 2, 2004, petitioners filed an allegation that DSM had made below-cost sales. On April 6, 2004, the Department initiated a cost investigation of DSM, after which DSM was required to respond to Section D of the questionnaire.

Because we disregarded sales of certain products made by INI at prices below the COP in what was at that time the most recently completed review of structural steel beams from Korea (see Structural Steel Beams From the Republic of Korea; Final Results of Antidumping Duty Administrative Review, 68 FR 2499 (January 17, 2003)), we had reasonable grounds to believe or suspect INI made sales of the foreign like product at prices below the COP, as provided by section 773(b)(2)(A)(ii) of the Tariff Act. Therefore, pursuant to section 773(b)(1) of the Tariff Act, from the outset of this review we required INI to respond to section D of the questionnaire.

INI submitted its response to sections A through D on January 16, 2004. On April 6, 2004, the Department issued a supplemental questionnaire to INI, to which INI responded on April 30, 2004. On July 21, 2004, the Department issued a second supplemental questionnaire to INI, to which INI responded on August 11, 2004.

DSM submitted its response to section A of the questionnaire on January 7, 2004, and its response to sections B and C of the questionnaire on February 9, 2004. On March 9, 2004, the Department issued a supplemental questionnaire to DSM for Section A, to which DSM responded on April 6, 2004. On April 15, 2004, the Department issued a supplemental questionnaire to DSM for Section B, to which DSM responded on May 10, 2004. On May 3, 2004, the Department issued a supplemental questionnaire to DSM for Section C, to which DSM responded on May 27, 2004.

DSM submitted its response to Section D of the questionnaire on May 4, 2004. On July 22, 2004, the Department issued an additional supplemental questionnaire to DSM, covering sections A, B, C, and D, to which DSM responded on August 20, 2004.

Both INI and DSM indicated in their initial Section A responses that no further manufacturing in the United States was performed by an affiliate or a contractor, and neither provided responses to Section E of the questionnaire.

Because it was not practicable to complete this review within the normal time frame, on December 16, 2003, the Department extended the time limit for the preliminary results of the administrative review to August 30, 2004 (see Structural Steel Beams From Korea: Extension of Time Limit for Preliminary Results of Antidumping Duty Administrative Review, 69 FR 16894 (March 31, 2004)).

Period of Review

The POR is from August 1, 2002, to July 30, 2003.

Scope of the Review

The products covered by this review are doubly-symmetric shapes, whether hot- or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes) and “M” shapes. All products that meet the physical and metallurgical descriptions provided above are within the scope of this review unless otherwise excluded. The following products are outside and/or specifically excluded from the scope of this review: structural steel beams greater than 400 pounds per linear foot or with a web or section height (also known as depth) over 40 inches.

The merchandise subject to this review is classified in the Harmonized Tariff Schedule of the United States (“HTSUS”) at subheadings: 7216.32.00000, 7216.33.0030, 7216.33.0060, 7216.33.0090, 7216.50.0000, 7216.61.0000, 7216.69.0000, 7216.91.0000, 7216.99.0000, 7216.99.0010, 7216.99.0090, 7228.70.3040, and 7228.70.6000. Although the HTSUS subheadings are provided for convenience and Customs purposes, the written description of the merchandise is dispositive.

Product Comparisons

In accordance with section 771(16) of the Tariff Act, we considered all structural steel beams produced by DSM and INI covered by the description in the “Scope of the Review” section of this notice, supra, which were sold in the home market during the reporting period for home market sales, to be the foreign like product for the purpose of determining appropriate product comparisons to structural steel beams products sold in the United States. In making product comparisons, we matched products based on the physical characteristics identified in our questionnaire and reported by DSM and INI as follows (listed in order of preference): hot-formed or cold-formed, shape/size (section depth), strength/grade, whether or not coated. Where there were no sales of identical merchandise in the home market to compare to U.S. sales, we compared U.S. sales to the next most similar foreign like product on the basis of the characteristics and reporting instructions listed in the questionnaire, or to constructed value (CV), as appropriate.

Affiliation

In the previous administrative review, which covered the August 1, 2001 through July 31, 2002 POR, the Department found DSM and Dongkuk Industries Co., Ltd., (DKI) to be affiliated because they were under the common control of a family grouping. (See Preliminary Results of Antidumping Duty Administrative Review: Structural Steel Beams From the Republic of Korea, 68 FR 53129, 53131 (September 9, 2003), unchanged in Structural Steel Beams From the Republic of Korea; Final Results of Antidumping Duty Administrative Review, 69 FR 7200, 7201 (February 13, 2004)). DSM and DKI have been determined to be affiliated in recent reviews of other antidumping duty orders covering PORs that overlap with the POR of the current review of structural steel beams from Korea. (See Certain Cut-to-Length Carbon-Quality Steel Plate Products From the Republic of Korea: Preliminary Results and Rescission in Part of Antidumping Duty Administrative Review, 68 FR 62770, 62771 (November 6, 2003), unchanged in Certain Cut-to-Length Carbon-Quality Steel Plate Products from the Republic of Korea: Final Results and Rescission in Part of Antidumping Duty Administrative Review, 69 FR 26361 (May 12, 2004), with a POR of February 1, 2002, through January 31, 2003; and Steel Concrete Reinforcing Bar From the Republic of Korea: Final Results of Antidumping Duty Administrative Review, 69 FR 19399 (April 13, 2004), and accompanying Issues and Decision Memorandum at Comment 1, with a POR of January 30, 2001, through August 31, 2002).

In the current structural steel beams review, DSM stated in its January 7, 2004, Section A response at page 9 that DKI ceased to be affiliated with DSM as of January 2001 because of a change in DKI's ownership percentage of DSM. However, this change took place prior to the previous (August 1, 2001, through July 31, 2002) POR, and this information was also accounted for in the Department's affiliation decisions in the aforementioned proceedings. Furthermore, DSM acknowledged that some of the major owners of DKI are relatives of some of the major owners of DSM (see January 7, 2004, Section A response at page 9), as was the case in the previous review, and did not provide any additional arguments why the Department should determine differently in this review. DSM has since continued to maintain that it is not affiliated with DKI (see DSM's August 20, 2004, supplemental questionnaire response in footnote 8 at page 23), but DSM did not provide any additional information or explanation to demonstrate that any substantive change has taken place. Consequently, we find sufficient evidence to conclude that DSM and DKI continue to be affiliated based on the record of this review, given the lack of any new information which would lead us to conclude otherwise.

Normal Value Comparisons

To determine whether sales of structural steel beams from Korea to the United States were made at less than normal value (NV), we compared the export price (EP) or the constructed export price (CEP) to the NV, as described in the “Export Price,” “Constructed Export Price,” and “Normal Value” sections of this notice, below. In accordance with section 777A(d)(2) of the Tariff Act, we compared the EPs and CEPs of individual U.S. transactions to the monthly weighted-average NVs of the foreign like product where there were sales at prices above the cost of production (COP), as discussed in the “Cost of Production” section below.

Export Price and Constructed Export Price

Section 772(a) of the Tariff Act defines EP as “the price at which the subject merchandise is first sold (or agreed to be sold) before the date of importation by the producer or exporter of the subject merchandise outside of the United States to an unaffiliated purchaser for exportation to the United States * * *,” as adjusted under subsection (c). Section 772(b) of the Tariff Act defines CEP as “the price at which the subject merchandise is first sold (or agreed to be sold) in the United States before or after the date of importation by or for the account of the producer or exporter, to a purchaser not affiliated with the producer or exporter * * *,” as adjusted under subsections (c) and (d). For the purposes of this administrative review, DSM has classified all of its U.S. sales as CEP sales, and INI has classified all of its U.S. sales as EP sales.

INI

For INI, we calculated the price of U.S. sales made prior to importation to unaffiliated purchasers in the United States. We made deductions from the reported gross price for movement expenses in accordance with section 772(c)(2)(A) of the Tariff Act; these included, where appropriate, foreign inland freight from plant to warehouse, foreign inland freight from plant/warehouse to port of exportation, foreign warehousing, international freight, U.S. duties, and U.S. brokerage expenses. We made an addition to U.S. price for duty drawback pursuant to section 772(c)(1)(B) of the Tariff Act.

DSM

For DSM, we calculated CEP based on the prices from Dongkuk International, Inc. (DKA), a U.S. affiliate of DSM, to unaffiliated purchasers in the United States. We made deductions for movement expenses in accordance with section 772(c)(2)(A) of the Tariff Act; these included, where appropriate, foreign inland freight from the plant to the port of export, foreign brokerage and handling expenses incurred by DSM and DKI (i.e., loading and unloading charges, wharfage and lashing expenses, brokerage fees, and port renovation expenses), international freight, marine insurance, other U.S. transportation expenses (i.e., U.S. wharfage, brokerage, and handling charges), and U.S. customs duty. Also, we made deductions for commissions for selling the subject merchandise in the United States in accordance with section 772(d)(1)(A) of the Tariff Act.

Additionally, we made deductions for expenses that bear a direct relationship to the sale in the United States (i.e., credit, and other direct selling expenses) pursuant to section 772(d)(1)(B). We added an amount for duty drawback pursuant to section 772(c)(1)(B) of the Act.

For CEP sales, we also made an adjustment for profit in accordance with section 772 (d)(3) of the Tariff Act. We deducted the profit allocated to expenses deducted under sections 772(d)(1) and 772(d)(2) in accordance with sections 772(d)(3) and 772(f) of the Tariff Act. In accordance with section 772(f) of the Tariff Act, we computed profit based on total revenue realized on sales in both the U.S. and home markets, less all expenses associated with those sales. We then allocated profit expenses incurred with respect to U.S. economic activity, based on the ratio of total U.S. expenses to total expenses for both the U.S. and home markets.

Level of Trade

In accordance with section 773(a)(1)(B)(i) of the Tariff Act, to the extent practicable, we determine NV based on sales in the comparison market at the same level of trade (LOT) as the CEP transaction. The NV LOT is that of the starting-price sales in the comparison market or, when NV is based on CV, that of the sales from which we derive selling, general and administrative (SG&A) expenses and profit. For EP, the LOT is also the level of the starting price sale, which is usually from the exporter to the importer. For CEP, it is the level of the constructed sale from the exporter to the importer.

To determine whether NV sales are at a different LOT than EP or CEP sales, we examine stages in the marketing process and selling functions along the chain of distribution between the producer and the customer. If the comparison market sales are at a different LOT and that difference affects price comparability (as manifested in a pattern of consistent price differences between the sales on which NV is based and comparison-market sales at the LOT of the export transaction), we make an LOT adjustment under section 773(a)(7)(A) of the Tariff Act. Finally, for CEP sales, if the NV level is more remote from the factory than the CEP level and there is no basis for determining whether the differences in the levels between NV and CEP sales affects price comparability, we adjust NV under section 773(A)(7)(B) of the Tariff Act (the CEP offset provision). (See Notice of Final Determination of Sales at Less Than Fair Value: Certain Carbon Steel Plate from South Africa, 62 FR 61731 (November 19, 1997)).

In identifying levels of trade for CEP, we considered only the selling activities reflected in the price after the deduction of expenses and profit under section 772(d) of the Tariff Act. (See Micron Technology, Inc. v. United States, 243 F.3d 1301, 1314-1315 (Fed. Cir. 2001)). Generally, if the reported levels of trade are the same in the home and U.S. markets, the functions and activities of the seller should be similar. Conversely, if a party reports levels of trade that are different for different categories of sales, the functions and activities should be dissimilar. (See Porcelain-on-Steel Cookware from Mexico; Final Results of Administrative Review, 65 FR 30068 (May 10, 2000)).

In implementing these principles in this administrative review, we obtained information from INI and DSM about the marketing stages involved in its reported U.S. and home market sales, including descriptions of the selling activities performed for each channel of distribution.

INI

INI indicated its home market sales were through two channels (sales to unaffiliated distributors, and sales to affiliated and unaffiliated end-users) and its U.S. sales were through one channel (to unaffiliated U.S. customers). INI did not claim any distinct levels of trade, and its descriptions of selling functions indicated very little variation across channels and markets. Consequently, we preliminarily determine that there is only one level of trade in both markets for INI.

DSM

DSM claimed only one level of trade in the home market. (See DSM's February 9, 2004, Section B response at page 22). Additionally, DSM reported that it sold through two channels of distribution in the home market: directly to unaffiliated customers (distributors and end-users); and government entities. (See DSM's February 9, 2004 Section B response at page 10). DSM reported that it performed a limited range of selling functions in the home market. (See DSM's January 7, 2004, section A response at Appendix 4). Because DSM performed the same selling functions for its two channels of distribution in the home market and identical selling functions are performed for all home market sales, we preliminarily determine there is one LOT in the home market.

DSM claimed one level of trade in the U.S. market. DSM reported it sold through one channel of distribution in the U.S. market, directly from its production facility to the unaffiliated U.S. customer. However the complete sales process was as follows: DSM sold the merchandise to an affiliated Korean trading company, DKI, which then resold the merchandise to another affiliate, DKA, which resold the merchandise to the unaffiliated U.S. customer. (See DSM's January 7, 2004, section A response at pages 8 and 9).

To determine the LOT of the respondent's CEP sales, we analyze the cumulative selling functions performed by DSM and by DKI. With respect to the assorted selling functions identified by DSM and its affiliates in DSM's response, the record indicates that those selling functions were the same for all U.S. sales. (See DSM's January 7, 2004 section A response at Appendix 4). In addition, DSM did not identify all of the functions in the Department's original questionnaire, nor did it appear to identify all of the functions performed for U.S. sales. Therefore, we preliminarily determine that there is no basis for determining that there is a distinct, less advanced LOT for U.S. sales than for home market sales. Therefore, no LOT adjustment or CEP offset is warranted.

Normal Value

A. Selection of Comparison Market

To determine whether there is a sufficient volume of sales in the home market to serve as a viable basis for calculating NV (i.e., the aggregate volume of home market sales of the foreign like product is greater than five percent of the aggregate volume of U.S. sales), we compared the respondent's volume of home market sales of the foreign like product to the volume of U.S. sales of the subject merchandise, in accordance with section 773(a)(1)(B) of the Tariff Act. Because the respondent's aggregate volume of home market sales of the foreign like product was greater than five percent of its aggregate volume of U.S. sales for the subject merchandise, we determined the home market was viable. (See INI's April 30, 2004, response at Exhibit A-23 and DSM's January 7, 2004 section A response at Appendix A-1).

B. Affiliated Party Transactions and Arm's-Length Test

The Department may calculate NV based on a sale to an affiliated party only if it is satisfied that the price to the affiliated party is comparable to the prices at which sales are made to parties not affiliated with the respondent, i.e., sales at arm's-length. (See section 773(f)(2) of the Tariff Act; see also 19 CFR 351.403(c)).

DSM reported no sales to affiliated parties in the home market. INI reported that a small portion of its home market sales were to affiliated parties. Those sales to affiliated parties amounted to less than five percent of total home market sales, and INI was not required to report downstream sales of those affiliated parties. Sales to affiliated customers in the home market not made at arm's-length prices are excluded from our analysis because we consider them to be outside the ordinary course of trade. (See 19 CFR 351.102(b)). To test whether the sales to affiliates were made at arm's-length prices, we compared on a model-specific basis the starting prices of sales to affiliated and unaffiliated customers net of all direct selling expenses, discounts and rebates, movement charges, and packing. Where applicable, we also made adjustments to gross unit price for reported billing adjustments. Where prices to the affiliated party were, on average, within a range of 98 to 102 percent of the price of identical or comparable merchandise to the unaffiliated parties, we determined that the sales made to the affiliated party were at arm's length. In accordance with the Department's practice, we disregarded sales to affiliated parties that we determined were not made at arm's length.

C. Cost of Production Analysis

In accordance with section 773(b)(3) of the Tariff Act, we calculated the weighted-average COP for each model based on the sum of material and fabrication costs for the foreign like product, plus amounts for selling expenses, general and administrative (G&A) expenses, interest expenses and packing costs. The Department relied on the COP data reported by INI and DSM.

In determining whether to disregard home market sales made at prices below the COP, we examined, in accordance with sections 773(b)(1)(A) and (B) of the Tariff Act, whether, within an extended period of time, such sales were made in substantial quantities, and whether such sales were made at prices which permitted the recovery of all costs within a reasonable period of time. Pursuant to section 773(b)(2)(C) of the Tariff Act, where less than 20 percent of the respondent's home market sales of a given model were at prices below the COP, we did not disregard any below-cost sales of that model because we determined that the below-cost sales were not made within an extended period of time in “substantial quantities.” Where 20 percent or more of the respondent's home market sales of a given model were at prices less than COP, we disregarded the below-cost sales because: (1) they were made within an extended period of time in “substantial quantities,” in accordance with sections 773(b)(2)(B) and (C) of the Tariff Act, and (2) based on our comparison of prices to the weighted-average COPs for the POR, they were at prices which would not permit the recovery of all costs within a reasonable period of time, in accordance with section 773(b)(2)(D) of the Tariff Act.

To determine whether INI made sales at prices below COP, we compared the product-specific COP figures to home market prices net of reported billing adjustments, discounts and rebates, and applicable movement charges of the foreign like product as required under section 773(b) of the Tariff Act. To determine whether DSM made sales at prices below COP, we compared the product-specific COP figures to home market prices net of applicable movement charges of the foreign like product as required under section 773(b) of the Tariff Act.

Our cost test for INI and for DSM revealed that for home market sales of certain models, less than 20 percent of the sales volume (by weight) of those models were at prices below the COP. We therefore retained all such sales observations in our analysis and used them in the calculation of NV. Our cost test also indicated that for certain INI models, 20 percent or more of the home market sales volume (by weight) were sold at prices below COP within an extended period of time and were at prices which would not permit the recovery of all costs within a reasonable period of time; for DSM that was not the case. Thus, in accordance with section 773(b)(1) of the Tariff Act, for INI we excluded these below-cost sales from our analysis and used the remaining above-cost sales in the calculation of NV.

D. Constructed Value

In accordance with section 773(e) of the Tariff Act, for both INI and DSM, we calculated CV based on the sum of the respondent's material and fabrication costs, SG&A expenses, profit, and U.S. packing costs. We calculated the COP component of CV as described above in the “Cost of Production Analysis” section of this notice. In accordance with section 773(e)(2)(A) of the Tariff Act, we based SG&A expenses and profit on the amounts incurred and realized by the respondent in connection with the production and sale of the foreign like product in the ordinary course of trade, for consumption in the foreign country. For selling expenses, we used the weighted-average home market direct and indirect selling expenses.

E. Price-to-Price Comparisons

We calculated NV based on prices to unaffiliated customers and prices to affiliated customers we determined to be at arm's length for home market sale observations that passed the cost test, and made adjustments, where appropriate, for physical differences in the merchandise in accordance with section 773(a)(6)(C)(ii) of the Tariff Act.

For INI, we made adjustments to gross unit price, where applicable, for billing adjustments, discounts and rebates, and interest revenue, and made deductions, where applicable, for foreign inland freight (i.e., inland freight from plant to distribution warehouse, and inland freight from plant/distribution warehouse to customer), pursuant to section 773(a)(6)(B) of the Tariff Act. In accordance with section 773(a)(6)(A) and (B) of the Tariff Act, we deducted home market packing costs and added U.S. packing costs. We made adjustments for differences in circumstances of sale, where applicable, for commissions, home market credit expenses, warranty expenses, and U.S. imputed credit expenses, in accordance with section 773(a)(6)(C)(iii) of the Tariff Act. Finally, in accordance with section 773(a)(4) of the Tariff Act, where the Department was unable to determine NV on the basis of contemporaneous matches in accordance with section 773(a)(1)(B)(i) of the Act, we based NV on CV.

For DSM, we based NV on the home market prices to unaffiliated purchasers. We made adjustments for discounts. We made adjustments, where appropriate, for physical differences in the merchandise in accordance with section 773(a)(6)(C)(ii) of the Tariff Act. We made adjustments, where applicable, for movement expenses (i.e., inland freight from plant to customer) in accordance with section 773(a)(6)(B) of the Tariff Act. We made circumstance-of-sale adjustments for credit, where appropriate, in accordance with section 773(a)(6)(C)(iii) of the Tariff Act. In accordance with section 773(a)(6) of the Tariff Act, we deducted home market packing costs and added U.S. packing costs. Finally, in accordance with section 773(a)(4) of the Tariff Act, where the Department was unable to determine NV on the basis of contemporaneous matches in accordance with 773(a)(1)(B)(i), we based NV on CV.

Currency Conversion

We made currency conversions into U.S. dollars, in accordance with section 773A(a) of the Tariff Act, based on the exchange rates in effect on the dates of the U.S. sales as certified by the Federal Reserve Bank.

Preliminary Results of Review

As a result of our review, we preliminarily determine the weighted-average dumping margin for the period August 1, 2002, through July 31, 2003, to be as follows:

Manufacturer/Exporter | Margin (percent)
INI Steel Company | 16.62
Dongkuk Steel Mill Co., Ltd. | 4.39

The Department will disclose calculations performed within five days of the date of publication of this notice in accordance with 19 CFR 351.224(b). An interested party may request a hearing within thirty days of publication of these preliminary results. (See 19 CFR 351.310(c)). Any hearing, if requested, will be held 37 days after the date of publication, or the first business day thereafter, unless the Department alters the date per 19 CFR 351.310(d). Interested parties may submit case briefs or written comments no later than 30 days after the date of publication of these preliminary results of review. Rebuttals to written comments, limited to issues raised in the case briefs and comments, may be filed no later than 35 days after the date of publication of this notice. Parties who submit arguments in these proceedings are requested to submit with the argument: (1) A statement of the issue, (2) a brief summary of the argument, and (3) a table of authorities. Further, we would appreciate it if parties submitting case briefs, rebuttal briefs, and written comments would provide the Department with an additional copy of the public version of any such argument on diskette. The Department will issue final results of this administrative review, including the results of our analysis of the issues in any such case briefs, rebuttal briefs, and written comments or at a hearing, within 120 days of publication of these preliminary results.

The Department shall determine, and CBP shall assess, antidumping duties on all appropriate entries. The Department will issue appropriate appraisement instructions directly to CBP upon completion of the review. For the preliminary results, we calculated importer-specific assessment rates based upon importer information provided by INI and DSM. Furthermore, the following deposit requirements will be effective upon completion of the final results of this administrative review for all shipments of structural steel beams from Korea entered, or withdrawn from warehouse, for consumption on or after the publication date of the final results of this administrative review, as provided by section 751(a)(1) of the Tariff Act:

(1) The cash deposit rates for the companies reviewed will be the rates established in the final results of review;

(2) For any previously reviewed or investigated company not listed above, the cash deposit rate will continue to be the company-specific rate published for the most recent period;

(3) If the exporter is not a firm covered in this review, a previous review, or the less-than-fair-value (LTFV) investigation, but the manufacturer is, the cash deposit rate will be the rate established for the most recent period for the manufacturer of the merchandise; and

(4) If neither the exporter nor the manufacturer is a firm covered in this or any previous review conducted by the Department, the cash deposit rate will be the “all others” rate of 37.21 percent from the LTFV investigation; (see Notice of Amended Final Determination of Sales at Less Than Fair Value: Structural Steel Beams From South Korea, 65 FR 50501 (August 18, 2000) and Structural Steel Beams From South Korea: Notice of Antidumping Duty Order, 65 FR 50502 (August 18, 2000)).

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act.

Dated: August 30, 2004.
James J. Jochum,
Assistant Secretary for Import Administration.

[FR Doc. E4-2069 Filed 9-2-04; 8:45 am]

BILLING CODE 3510-P